DEPARTMENT OF COMMERCE

National Oceanic and Atmospheric Administration

[RTID 0648-XB973]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day in-person meeting of its Standing, Reef Fish, Socioeconomic, and Shrimp Scientific and Statistical Committees (SSC).

DATES: The meeting will take place Tuesday, May 10 and Wednesday, May 11, 2022, from 9 a.m. to 5 p.m., EDT daily.

ADDRESSES: If you are unable to attend in-person, the public may listen-in to the meeting via webinar. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, May 10, 2022; 9 a.m.-5 p.m., EDT

The meeting will begin with Introductions and Adoption of Agenda, Approval of Verbatim Minutes and Meeting Summary from the March 8-10, 2022, meeting, and review of Scope of Work. The Committees will select an SSC Representative for the June 21-24, 2022, Gulf Council Meeting. Following, Committees will receive a presentation on National Standard 2 and the Best Scientific Information Available. The Committees will then hold a discussion on the Council's Acceptable Biological Catch Control Rule modifications, including a presentation on the Southeast Fishery Science Center (SEFSC) proposal, and review background materials for discussion. Public comment will be heard at the end of the day.

Wednesday, May 11, 2022; 9 a.m.-5 p.m., EDT

The Committees will receive a presentation of an update on the Number of Active Gulf Shrimp Permits, Economic Estimates, and Royal Red Shrimp Landings. The Committees will review the SEFSC Analysis of Red Grouper Stock Assessments using Alternative Marine Recreational Information Program Landings Data, followed by a review of Additional Sector Allocation-informed Projections for Gulf of Mexico Greater Amberjack. The Committees will then hold a discussion of the Council's April 2022 motion about Goliath Grouper and review available data and background material for SSC discussion.

The Committees will review the Terms of Reference for the State Reef Fish Survey Run of the Southeast Data, Assessment, and Review (SEDAR) 72 base model for Gulf Gag Grouper. Lastly, the Committees will receive public comment before addressing any items under Other Business.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: April 19, 2022.
Tracey L. Thompson,
Acting Deputy Director, Office of Sustainable Fisheries, National Marine Fisheries Service.

[FR Doc. 2022-08609 Filed 4-21-22; 8:45 am]

BILLING CODE 3510-22-P